DEPARTMENT OF VETERANS AFFAIRS

Commission on Care Meeting

In accordance with the Federal Advisory Committee Act, 5 U.S.C., App. 2, the Commission on Care gives notice that it will meet on Monday, November 16, 2015, and Tuesday, November 17, 2015, at the J.W. Marriott, Jr. ASAE Conference Center, 1575 I St. NW., Washington, DC 20005. The meeting will convene at 8:30 a.m. and end at 12:30 p.m. on both days. The meeting is open to the public.

The purpose of the Commission, as described in section 202 of the Veterans Access, Choice, and Accountability Act of 2014, is to examine the access of Veterans to health care from the Department of Veterans Affairs and strategically examine how best to organize the Veterans Health Administration, locate health care resources, and deliver health care to Veterans during the next 20 years.

On the mornings of November 16 and 17, the Commission will hear from experts who will provide insights on work to be done by the Commission. On the afternoons of November 16 and 17, and the morning of November 18, the Committee will convene closed sessions in accordance with The Government in the Sunshine Act, 5 U.S.C. 552b(c)(2) and (c)(9)(B).

No time will be allocated at this meeting for receiving oral presentations from the public. The public may submit written statements for the Commission's review to Sharon Gilles or John Goodrich, Designated Federal Officers, Commission on Care, at sharon.gilles@va.gov or john.goodrich@va.gov, respectively. Any member of the public wanting to attend may contact Ms. Gilles or Mr. Goodrich.

Dated: October 26, 2015.
Sharon Gilles,
Designated Federal Officer, Commission on Care.

[FR Doc. 2015-27589 Filed 10-29-15; 8:45 am]

BILLING CODE 8320-01-P